DEPARTMENT OF TRANSPORTATION

Federal Highway Administration

Notice of Final Federal Agency Actions on Proposed Highway in Minnesota and Wisconsin

AGENCY: Federal Highway Administration (FHWA), DOT.

ACTION: Notice of Limitation on Claims for Judicial Review of Actions by FHWA and other Federal Agencies.

SUMMARY: This notice announces actions taken by the FHWA and other Federal agencies that are final within the meaning of 23 U.S.C. 139(l)(1). The actions relate to a proposed highway project, the St. Croix River Crossing on Trunk Highway (TH) 36 in Oak Park Heights, Washington County, Minnesota to State TH 35/64 in St. Joseph, St. Croix County, Wisconsin. Those actions grant approvals for the project.

DATES: By this notice, the FHWA is advising the public of final agency actions subject to 23 U.S.C. 139(l)(1). A claim seeking judicial review of the Federal agency actions of the highway project will be barred unless the claim is filed on or before June 6, 2007. If the Federal law that authorizes juridical review of a claim provides a time period of less than 180 days for filing such claim, then that shorter time period still applies.

FOR FURTHER INFORMATION CONTACT: For FHWA: Mr. Thomas Sorel, Division Administrator, Federal Highway Administration, Galtier Plaza, Suite 500, 380 Jackson Street, St. Paul, Minnesota 55101, Telephone (651) 291-6100, e-mail Thomas.sorel@fhwa.dot.gov. The Minnesota Division Office's normal business hours are 7:30 a.m. to 4 p.m. (central time). For the Minnesota Department of Transportation (Mn/DOT): Mr. Todd Clarkowski, P.E.—Metro District, 1500 West County Road B2, Roseville, Minnesota 55113, Telephone (651) 582-1169, (800) 627-3529 TTY, e-mail: Todd.clarkowski@state.mn.us. For the Wisconsin Department of Transportation (Wis/DOT): Mr. Terry Pederson, P.E., 718 West Clairemont Avenue, Eau Claire, Wisconsin 54701, telephone (715) 836-2857, e-mail: Terry.pederson@dot.state.wi.us.

SUPPLEMENTARY INFORMATION: Notice is hereby given that the FHWA and other Federal agencies have taken final agency actions by issuing approvals for the following highway project in Minnesota and Wisconsin: St. Croix River Crossing on TH 36 from a point 700 feet east of the TH 5/TH 36 interchange in Oak Park Heights, Washington County, Minnesota to a point 100 feet southwest of the 150th Avenue overpass on Sate TH 35/64 in St. Joseph, St. Croix County, Wisconsin. The project will be a 6.7 mile long, four-lane highway and includes the construction of a new crossing of the St. Croix River. The project also includes reconstruction of associated roadways in both states, as well as construction in Stillwater and Bayport, Minnesota. The actions by the Federal agencies, and the laws under which such actions were taken, are described in the 2006 Supplemental Final Environmental Impact Statement (SFEIS)/Final Section 4(f) Evaluation for the project, approved on May 17, 2006, in the FHWA Record of Decision (ROD) issued on November 13, 2006, and in other documents in the FHWA project files. The SFEIS, ROD and other project records are available by contacting the FHWA, Mn/DOT or Wis/DOT at the addresses provided above. The FHWA SFEIS and ROD can be viewed and downloaded from the project Web site at http://www.dot.state.mn.us/metro/projects/stcroix/index.html. This notice applies to all Federal agency decisions as of the issuance date of this notice and all laws under which such actions were taken, including but not limited to:

1. General: National Environmental Policy Act (NEPA) [42 U.S.C. 4321-4351]; Federal-Aid Highway Act [23 U.S.C. 109].

2. Land: Section 4(f) of the Department of Transportation Act of 1966 [49 U.S.C. 303]; Landscaping and Scenic Enhancement (Wildflowers) [23 U.S.C. 319].

3. Wildlife: Endangered Species Act [16 U.S.C. 1531-1544 and Section 1536]; Fish and Wildlife Coordination Act [16 U.S.C. 661-667(d)]; Migratory Bird Treaty Act [16 U.S.C. 703-712].

4. Historic and Cultural Resources: Section 106 of the National Historic Preservation Act of 1966, as amended [16 U.S.C. 470(f) et seq.]; archaeological and Historic Preservation Act [16 U.S.C. 469-469(c)].

5. Social and Economic: Civil Rights Act of 1964 [42 U.S.C. 2000(d)-2000(d)(1)]; Farmland Protection Policy Act (FPPA) [7 U.S.C. 4201-4209].

6. Safe Drinking Water Act (SDWA) [42 U.S.C. 300(f)-300(j)(6)]; Flood Disaster Protection Act [42 U.S.C. 4001-4128].

7. Executive Orders: E.O. 11990, Protection of Wetlands; E.O. 11988, Floodplain Management; E.0. 12898, Federal Actions to Address Environmental Justice in Minority Populations and Low Income Populations; E.O. 11593, Protection and Enhancement of Cultural Resources; E.O. 13007, Indian Sacred Sites; E.O. 13287, Preserve America; E.O. 13175, Consultation and Coordination with Indian Tribal Governments; E.O. 11514, Protection and Enhancement of Environmental Quality; E.O. 13112, Invasive Species.

(Catalog of Federal Domestic Assistance Program Number 20.205, Highway Planning and Construction. The regulations implementing Executive Order 12372 regarding intergovernmental consultation on Federal programs and activities apply to this program.)

Authority: 23 U.S.C. 139(l)(1).

Issued on: November 28, 2006.
Thomas K. Sorel,
Division Administrator, Federal Highway Administration, St. Paul, Minnesota.

[FR Doc. 06-9519 Filed 12-4-06; 8:45 am]

BILLING CODE 4910-22-M